DEPARTMENT OF HEALTH AND HUMAN SERVICES

Food and Drug Administration

21 CFR Part 101

[Docket No. FDA-2014-N-1021]

RIN 0910-AH00

Food Labeling; Gluten-Free Labeling of Fermented or Hydrolyzed Foods; Reopening of the Comment Period

AGENCY: Food and Drug Administration, HHS.

ACTION: Proposed rule; reopening of the comment period.

SUMMARY: In the Federal Register of November 18, 2015 (80 FR 71990), the Food and Drug Administration (FDA) published a proposed rule entitled, “Food Labeling; Gluten-Free Labeling of Fermented or Hydrolyzed Foods.” Due to an inadvertent error, the publication contained conflicting dates for submission of comments under the Paperwork Reduction Act of 1995. This notice corrects that error.

DATES: Submit either electronic or written comments on information collection issues under the PRA by February 22, 2016.

ADDRESSES: Submit comments on information collection issues to the Office of Management and Budget in the following ways:

• Fax to the Office of Information and Regulatory Affairs, OMB, Attn: FDA Desk Officer, FAX: 202-395-7285, or email to oira_submission@omb.eop.gov. All comments should be identified with the title “Recordkeeping Requirements for Gluten-Free Labeling of Fermented or Hydrolyzed Foods.”

FOR FURTHER INFORMATION CONTACT: FDA PRA Staff, Office of Operations, Food and Drug Administration, 8455 Colesville Rd., COLE-14526, Silver Spring, MD 20993-0002, PRAStaff@fda.hhs.gov.

SUPPLEMENTARY INFORMATION: On November 18, 2015 (80 FR 71990), the Food and Drug Administration (FDA) published a proposed rule entitled, “Food Labeling; Gluten-Free Labeling of Fermented or Hydrolyzed Foods.” In the DATES section of the proposed rule, we provided a 30-day period for submitting comments with respect to the information collection issues under the Paperwork Reduction Act of 1995 (PRA). However, in the PRA discussion for the proposed rule, an error was made that provided 60 days for PRA comments. To address this error, we have reopened the comment period for the information collection provisions of the proposed rule. Accordingly, comments regarding information collection issues may be received until February 22, 2016. The comment period for all other aspects of the proposed rule remains unchanged where comments may be submitted until February 16, 2016.

Dated: January 15, 2016.
Leslie Kux,
Associate Commissioner for Policy.

[FR Doc. 2016-01177 Filed 1-21-16; 8:45 am]

BILLING CODE 4164-01-P